DEPARTMENT OF COMMERCE

International Trade Administration

District Export Council Nomination Opportunity

AGENCY: International Trade Administration, Department of Commerce.

ACTION: Notice of opportunity for appointment to serve as a District Export Council member.

SUMMARY: The Department of Commerce is currently seeking nominations of individuals for consideration for appointment by the Secretary of Commerce to serve as members of the newly established New Mexico District Export Council (DEC). DECs are closely affiliated with the U.S. Export Assistance Centers (USEACs) of the U.S. and Foreign Commercial Service (US&FCS), which is part of the Global Markets unit within the International Trade Administration, and play a key role in the planning and coordination of export activities in their communities.

DATES: Nominations for individuals will be accepted through October 15, 2024.

FOR FURTHER INFORMATION CONTACT: Please contact Indalecio Vallejos, Director of the New Mexico USEAC for more information on the DEC and the nomination process. Mr. Vallejos can be reached by email Indalecio.vallejos@trade.gov. For general program information, contact Laura Barmby, District Export Council Program Manager, US&FCS, at (202) 482-2675.

SUPPLEMENTARY INFORMATION: District Export Councils support the mission of US&FCS by facilitating the development of an effective local export assistance network, supporting the expansion of export opportunities for local U.S. companies, serving as a communication link between the business community and US&FCS, and assisting in coordinating the activities of trade assistance partners to leverage available resources. Individuals appointed to a DEC become part of a select corps of trade professionals dedicated to providing international trade leadership and guidance to the local business community and assistance to the Department of Commerce on export development issues. DEC members are volunteers. DEC members are not special government employees. DEC members receive no compensation for their participation in DEC activities or reimbursement for travel and other personal expenses.

Nomination Process: The DEC has a maximum membership of 35. All appointments will be effectively immediately. Approximately half of the positions open on the DEC will be appointed to a term ending December 31, 2025, and the remainder for the term ending December 31, 2027. The online nomination form is available at https://app.keysurvey.com/f/41751734/3f30/.

All potential nominees must complete the online nomination form linked above and consent to sharing of the information on that form, if appointed, with other DEC members, relevant government agencies and private sector organizations with a focus on trade. Interested individuals are highly encouraged to reach out to the local USEAC Director to learn more about the DEC and to begin the application process as soon as possible.

Eligibility and Appointment Criteria: Appointment is based upon an individual's international trade leadership in the local community, ability to influence the local environment for exporting, knowledge of day-to-day international operations, interest in export development, and willingness and ability to devote time to DEC activities. Members must be employed as exporters or export service providers or in a profession which supports U.S. export promotion efforts. DEC member appointments are made without regard to political affiliation. DEC membership is open to U.S. citizens and permanent residents of the United States. As representatives of the local exporting community, DEC Members must reside in, or conduct the majority of their work in, the territory that the DEC covers. DEC membership is not open to federal government employees. Individuals representing foreign governments, including individuals registered with the Department of Justice under the Foreign Agents Registration Act, must disclose such representation and may be disqualified if the Department determines that such representation is likely to impact the ability to carry out the duties of a DEC member or raise an appearance issue for the Department.

Selection Process: Nominations of individuals who have applied for DEC membership will be forwarded to the local USEAC Director for the Director's consideration. The local USEAC Director ensures that all nominees meet the membership criteria. The local USEAC Director then evaluates all nominees to determine their interest, commitment, and qualifications. In reviewing nominees, the local USEAC Director strives to ensure a balance among exporters from a manufacturing or service industry and export service providers. A fair representation should be considered from companies and organizations that support exporters, representatives of local and state government, and trade organizations and associations. Membership should reflect the diversity of the local business community, encompass a broad range of business and industry sectors, and be distributed geographically across the DEC service area, and where possible, the Department of Commerce will also consider the ethnic, racial, and gender diversity and various abilities of the United States population.

The local USEAC Director determines which nominees to forward to the US&FCS Office of U.S. Field for further consideration for recommendation to the Secretary of Commerce. A candidate's background and character are pertinent to determining suitability and eligibility for DEC membership. Since DEC appointments are made by the Secretary, the Department must make a suitability determination for all DEC nominees. After completion of a vetting process, the Secretary selects nominees for appointment to the local DEC. DEC members are appointed by and serve at the pleasure of the Secretary of Commerce.

Authority: 15 U.S.C. 1512 and 4721.

Laura Barmby,
District Export Council Program Manager.

[FR Doc. 2024-23762 Filed 10-11-24; 8:45 am]

BILLING CODE 3510-FP-P